ENVIRONMENTAL PROTECTION AGENCY

40 CFR Part 82

[FRL 7659-5]

Protection of Stratospheric Ozone: Notice of Data Availability; New Information Concerning Carbon Dioxide Total Flooding Fire Extinguishing Systems Listed Under the SNAP Program as an Acceptable Substitute for Ozone-Depleting Halons

Correction

In proposed rule document 04-10651 beginning on page 26059 in the issue of Tuesday, May 11, 2004, make the following correction:

On page 26060, in the third column, in the second full paragraph titled, By Hand Delivery or Courier, in the fifth line, “OAR-2003-0228” should read “OAR 2004-0024”.

[FR Doc. C4-10651 Filed 5-18-04; 8:45 am]

BILLING CODE 1505-01-D

DEPARTMENT OF JUSTICE

Notice of Lodging of Consent Decree Under the Clean Air Act

Correction

In notice document 04-10842 beginning on page 26619 in the issue of Thursday, May 13, 2004, make the following correction:

On page 26619, in the third column, the third line after the subject heading is corrected to read “Consent Decree in United States v. True”.

[FR Doc. C4-10842 Filed 5-18-04; 8:45 am]

BILLING CODE 1505-01-D

DEPARTMENT OF JUSTICE

Notice of Lodging of Consent Decree Between the United States of America v. Koch Industries, Inc., Koch Pipeline Company, L.P., and Flint Hill Resources, L.P. Under the Comprehensive Environmental Response, Compensation, and Liability Act

Correction

In notice document 04-10843 appearing on page 26618 in the issue of Thursday, May 13, 2004, make the following correction:

On page 26618, in the third column, in the second paragraph, in the third line above the signature block, “$725” should read “$7.25”.

[FR Doc. C4-10843 Filed 5-18-04; 8:45 am]

BILLING CODE 1505-01-D

PENSION BENEFIT GUARANTY CORPORATION

RIN 1212-AB00

Participant Notice Voluntary Correction Program

Correction

In notice document 04-10406 beginning on page 25792 in the issue of Friday May 7, 2004, make the following correction:

On page 25793 in the third column, under the heading “ Notice to PBGC” in the 14th and 15th lines, “or hand at Contracts and Control” should read “or hand-delivery to ATTN: Participant Notice VCP, Contracts and Controls”.

[FR Doc. C4-10406 Filed 5-18-04; 8:45 am]

BILLING CODE 1505-01-D

PENSION BENEFIT GUARANTY CORPORATION

29 CFR Parts 4011 and 4071

RIN 1212-AA95

Assessment of and Relief From Penalties—Participant Notices

Correction

In proposed rule document 04-10407 beginning on page 25797 in the issue of May 7, 2004, make the following correction:

On page 25798, in the first column, under the heading “ Determination of Participant Count” in the fifth line, “the plan for” should read “the plan year for”.

[FR Doc. C4-10407 Filed 5-18-04; 8:45 am]

BILLING CODE 1505-01-D